DEPARTMENT OF JUSTICE

Notice of Lodging of First Amendment to Consent Decree Pursuant to the Comprehensive Environmental Response Compensation and Liability Act (“CERCLA”)

Notice is hereby given that on March 23, 2005, a proposed First Amendment to Consent Decree in United States v. Boise Cascade Corp., et al., Civil Action 7:97-cv-1704 (“Amendment”), was lodged with the United States District Court for the Northern District of New York.

On November 20, 1997, the court entered a Consent Decree regarding the Sealand Restoration Superfund Site in Lisbon, New York (“Site”). The Consent Decree required five Settling Defendants to implement the groundwater remedy that EPA selected in a 1995 Record of Decision (“ROD”) for the Site. In November 2001, EPA issued an Explanation of Significant Differences (“ESD”) which modified the selected groundwater remedy (requiring the construction of a permeable reactive barrier) and provided for implementation of institutional controls and the performance of a supplemental study. The proposed Amendment conforms the Decree to the ESD. In addition, the Amendment calls for a revised threshold above which the settling defendants will be required to pay for future oversight costs.

The Department of Justice will receive for a period of thirty (30) days from the date of this publication comments relating to the Amendment. Comments should be addressed to the Assistant Attorney General, Environment and Natural Resources Division, P.O. Box 7611, U.S. Department of Justice, Washington, DC 20044-7611, and should refer to United States v. Boise Cascade Corp., D.J. Ref. 90-11-3-1144.

The Consent Decree may be examined at the Office of the United States Attorney, James Foley Bldg., 445 Broadway, Room 218, Albany 12207 (contact Civil Chief, Assistant U.S. Attorney James Woods), and at U.S. EPA Region II, 290 Broadway, 17th Floor, New York, New York, 10007-1866 (contact Assistant Regional Attorney James Doyle). During the public comment period, the Consent Decree may also be examined on the following Department of Justice Web site http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $30.75 (25 cents per page reproduction cost) payable to the U.S. Treasury.

Ronald G. Gluck,
Assistant Chief, Environmental Enforcement Section, Environment and Natural Resources Division.

[FR Doc. 05-6843 Filed 4-5-05; 8:45 am]

BILLING CODE 4410-15-M